DEPARTMENT OF AGRICULTURE

Animal and Plant Health Inspection Service

7 CFR Parts 305 and 318

[Docket No. APHIS-2007-0050]

RIN 0579-AC62

Interstate Movement of Fruit From Hawaii

AGENCY: Animal and Plant Health Inspection Service, USDA.

ACTION: Final rule.

SUMMARY: We are amending the Hawaiian fruits and vegetables regulations to allow mangosteen, dragon fruit, melon, pods of cowpea and its relatives, breadfruit, jackfruit, and fresh moringa pods to be moved interstate from Hawaii under certain conditions. This action will allow the movement of these tropical fruits from Hawaii to the continental United States while continuing to provide protection against the spread of plant pests from Hawaii to the continental United States.

DATES: Effective Date: May 6, 2008.

FOR FURTHER INFORMATION CONTACT: Mr. David B. Lamb, Import Specialist, Commodity Import Analysis and Operations, PPQ, VS, APHIS, 4700 River Road, Unit 133, Riverdale, MD 20737-1236; (301) 734-8758.

SUPPLEMENTARY INFORMATION:

Background

The Hawaiian fruits and vegetables regulations, contained in 7 CFR 318.13 through 318.13-17 (referred to below as the regulations), govern, among other things, the interstate movement of fruits and vegetables from Hawaii to the continental United States. The regulations are necessary to prevent the spread of plant diseases and pests that occur in Hawaii but not in the continental United States. The regulations in § 318.13-4f identify specific fruits and vegetables that are allowed to be moved interstate from Hawaii if, among other things, they are treated with irradiation in accordance with our phytosanitary treatments regulations in 7 CFR part 305.

On November 15, 2007, we published in the Federal Register (72 FR 64163-64170, Docket No. APHIS-2007-0050) a proposal ¹ to amend the regulations to allow mangosteen, dragon fruit, melon, pods of cowpea and its relatives, breadfruit, jackfruit, and fresh moringa pods to be moved interstate from Hawaii under certain conditions. We also proposed to amend § 305.31(a) to add irradiation doses for three plant pests: Coconut scale (Aspidiotus destructor), white peach scale (Pseudaulacaspis pentagona), and Copitarsia decolora (Lepidoptera: Noctuidae).

¹ To view the proposed rule and the comments we received, go to http://www.regulations.gov/fdmspublic/component/main?main=DocketDetail&d=APHIS-2007-0050.

We solicited comments concerning our proposal for 60 days ending January 14, 2008. We received nine comments by that date, from private citizens, members of Congress, Hawaiian fruit growers, a farm bureau organization, scientists, a consumer group, and a foreign agricultural agency. The commenters were generally supportive of the proposed rule, but some did raise issues about the proposal. Those issues are discussed below.

One commenter stated that the irradiation standards for Hawaiian produce are less flexible than those for international shipments. Specifically, the commenter drew attention to the provisions regarding the design of a facility's dosimetry system and procedures. The regulations in 7 CFR 305.31, which apply to imported produce, provide that the facility operator must address guidance and principles from the American Society for Testing and Materials (ASTM) Standards, or equivalent standards recognized by the Administrator. However, the regulations in 7 CFR 305.34, which apply to Hawaiian produce, specify the use of ASTM standards only, and do not allow for the use of equivalent standards. The commenter stated that this discrepancy gives greater flexibility to foreign imports and allows foreign produce to gain access to markets in the continental United States ahead of Hawaiian produce.

We note that the standards for irradiation treatment for Hawaiian produce were established before those for imports. When the standards for imports were proposed, they were identical to those already established for Hawaiian produce. However, a comment we received on that proposal rightly pointed out that the ASTM standards for dosimetry describe basic principles, effective techniques, and best practices, but do not provide absolute or mandatory standards for dosimetry systems. The same comment pointed out that other organizations, such as the National Institute of Standards and Technology, also have prepared standards regarding dosimetry that could also be used. In response to that comment, we amended the text of § 305.31 to change the manner in which we characterized the ASTM standards and to allow for the use of equivalent standards recognized by the Administrator. While it would have been appropriate to have made the same changes regarding standards to § 305.34 in the final rule that established § 305.31, it did not occur to us to do so at that time. As a result of this more recent comment bringing the discrepancy between the two sections to our attention, we are amending § 305.34(b)(6)(iii) in this final rule so that it is consistent with the corresponding provisions in § 305.31. We are also amending the regulations in § 305.32, which provide for irradiation treatment of produce from areas quarantined for Mexican fruit fly, so that its provisions regarding dosimetry standards are consistent as well.

One commenter noted that the handling, marking, and shipping requirements for irradiated produce are more stringent than for any other treatment schedules.

This may be the case; however, irradiation technology has some unique challenges that are not common with other treatments. Since irradiation treatment may render pests sterile rather than killing them outright, and therefore live pests may accompany shipments, there is no easy way to validate the irradiation treatment as may be done with other treatments. As a result, greater emphasis is placed on treatment monitoring, documentation, and system integrity when irradiation is used than when other treatments are used. This is to remove any chance for commodity commingling or reinfestation by pests.

Several commenters requested that we implement a streamlined process for approving Hawaiian produce for movement to the continental United States similar to the one now used for approving imported fruits and vegetables.

We agree that a streamlined approach would be appropriate for approving Hawaiian fruits and vegetables and intend to address the issue in a separate rulemaking currently under development.

One commenter requested clarification of why the Mediterranean fruit fly (Medfly) was included on the list of pests associated with melon from Hawaii. The commenter noted that Medfly has not been reported in interceptions from Hawaii, and that scientific literature does not include references to field infestations of melon by Medfly.

The Medfly was included in the pest risk assessment (PRA) for melon from Hawaii for several reasons. The Medfly is a serious agricultural pest and is established in Hawaii. Melon has been found to be a host of the Medfly under experimental conditions. Furthermore, the host fruit conditions determining the suitability or unsuitability of melon for Medfly are unknown. For these reasons melon as a host of Medfly in Hawaii remains in the PRA. We also note that some Bactrocera species fruit flies occurring in Hawaii attack melon. Because the mitigation of choice for Hawaii is irradiation treatment, which has a generic dose for all fruit flies occurring in Hawaii, Medfly as a pest on the pathway in the PRA is not an issue.

One commenter raised issues that involve matters that are not within the regulatory authority of APHIS. Specifically, the commenter expressed concern that irradiation will lead to nutrient destruction and make foods unsafe to eat. The commenter also stated that APHIS should not approve or promote irradiation treatments because irradiation facilities will pose serious risks to the communities where they are built.

We are not making any changes in response to this comment. The Food and Drug Administration (FDA) has primary regulatory responsibility for ensuring that approved irradiation doses do not render foods unsafe to eat. FDA regulations (21 CFR 179.26) establish a limit of 1 kilogray for disinfestation of arthropod pests in fresh fruits and vegetables. All of the irradiation doses contained in this rule are significantly less than this approved safe dose limit.

The safety of operations of irradiation facilities is regulated by the Nuclear Regulatory Commission (NRC). NRC ensures that such facilities are built and operated according to Federal regulations. To be licensed, the facility must have been designed with multiple fail-safe measures, and must establish extensive and well-documented safety procedures and worker training. With proper design and operating procedures, commercial irradiation facilities can be operated safely and without posing any significant radiation risk to workers or the public.

Therefore, for the reasons given in the proposed rule and in this document, we are adopting the proposed rule as a final rule, with the changes discussed in this document.

Effective Date

This is a substantive rule that relieves restrictions and, pursuant to the provisions of 5 U.S.C. 553, may be made effective less than 30 days after publication in the Federal Register.

Immediate implementation of this rule is necessary to provide relief to those persons who are adversely affected by restrictions we no longer find warranted. Making this rule effective immediately will allow Hawaii growers and others in the marketing chain to benefit from access to new markets in the continental United States as soon as possible. Therefore, the Administrator of the Animal and Plant Health Inspection Service has determined that this rule should be effective upon publication in the Federal Register.

Executive Order 12866 and Regulatory Flexibility Act

This final rule has been reviewed under Executive Order 12866. The rule has been determined to be not significant for the purposes of Executive Order 12866 and, therefore, has not been reviewed by the Office of Management and Budget.

This final rule will allow the interstate movement of mangosteen, dragon fruit, melon, pods of cowpea and its relatives, breadfruit, jackfruit, and fresh moringa pods from Hawaii after irradiation treatment. As a condition of entry, these fruits will have to meet certain other inspection and treatment requirements. This action will allow for the interstate movement of these fruits into the continental United States while continuing to provide protection against the introduction of quarantine pests.

Tropical specialty fruit production in Hawaii has been increasing rapidly in recent years.² Hawaii's growers produced and sold an estimated 1.45 million pounds of tropical specialty fruit in 2006, which was approximately the same as the 2005 output of 1.46 million pounds. Sales in 2005 were the highest on record and 40 percent more than was produced and sold in 2004.³ Sales in 2006 were valued at $2.6 million, 4 percent lower than in 2005 levels, but 34 percent higher than sales in 2004.

² Tropical specialty fruits include: Abiu, atemoya, breadfruit, caimito, canistel, cherimoya, durian, jaboticaba, jackfruit, langsat, longan, loquat, litchi, mango, mangosteen, persimmon, poha, rambutan, rollina, sapodilla, soursop, starfuit, and white sapote.

³ The statistics in this paragraph are taken from USDA National Agricultural Statistics Service (NASS), “Hawaii Tropical Specialty Fruits,” released September 4, 2007. http://www.nass.usda.gov/hi/fruit/tropfrt.pdf.

The final rule is not expected to result in significant economic impacts to mainland U.S. producers. The tropical specialty fruits included in this rule are not commercially grown in the continental United States. The final rule will benefit Hawaiian producers by providing a broader market for these fruits. Their movement from Hawaii will compete against imports from other countries, and the only impacts to U.S. producers will be the benefits that accrue to Hawaiian producers.

Melons and cowpeas are produced in the continental United States, but effects of allowing the interstate movement of melons from Hawaii on U.S. mainland producers of these products are expected to be minimal.

Melons

The predominant U.S. melon varieties are cantaloupes, honeydews, and watermelons, for which the value of U.S. production was approximately $866 million in 2006 (table 1). Over 80 percent of melon production takes place in five states. California is the leading domestic producer of all melons, accounting for 32 percent of total acreage; followed by Georgia and Arizona, with 14 percent; Texas, with 11 percent; and Florida, with 10 percent. The United States is a net importer of melons. In 2006, the total value of melons imported into the United States was $352 million, compared to $119 million worth of melons exported.⁴ Nearly all (99 percent) melon farmers have receipts of not more than $750,000 annually, and are therefore classified by the Small Business Administration (SBA) as small entities.

⁴ World Trade Atlas 2006.

Table 1.—Value of U.S. Melon Production, 2004-2006
Commodity | 2004 | 2005 | 2006
Cantaloupe | $322,188,000 | $335,818,000 | $340,677,000
Honeydews | 92,133,000 | 91,569,000 | 90,600,000
Watermelons | 313,217,000 | 445,917,000 | 434,861,000
Total | 727,538,000 | 873,304,000 | 866,138,000
Source: National Agricultural Statistics Service.

We do not know the quantity or type of melons that will be moved from Hawaii to the continental United States under this rule, but we do not expect the quantity to be significant in relation to our total domestic supply. For example, the most recent NASS data on the farm value of watermelon produced in Hawaii show a value of $2.9 million in 2006, which is less than 1 percent of the value of U.S. watermelon production overall and less than 1 percent of the value of U.S. melon imports of all types.

Entry of Hawaii melons into markets in the continental United States is not expected to have a significant economic impact on mainland prices or production, especially given the irradiation treatment costs and transport costs that merchants of Hawaiian melons will have to bear. Moreover, depending on the type of melon, relative prices, and quality, shipments from Hawaii to the continental United States may at least partially substitute for imports, thereby further reducing any effects for mainland producers.

Fresh Cowpea Pods

The 2002 Census of Agriculture, the most recent year for which data are available, states that 151 farms harvested 13,651 acres of cowpeas in 2002. Cowpeas, also known as southern peas, blackeye peas, or crowder, are not routinely harvested as fresh cowpea pods but are allowed to dry before harvesting. Nearly all (99 percent) cowpea farmers have receipts of not more than $750,000 annually, and therefore are small entities according to SBA standards.

Fresh cowpea pods are not sold commercially by producers in the continental United States; only dried cowpea pods are marketed. Since fresh cowpea pods are not generally used as a substitute for dried cowpeas, interstate movement of fresh cowpea pods from Hawaii will not significantly impact the mainland's commercial production of cowpeas. Rather, the fresh cowpea pods from Hawaii are expected to be sold as a fresh or frozen vegetable. Immature snapped cowpea pods are used in the same way as snap beans, often mixed with other foods.⁵ Green cowpea seeds can be boiled as a fresh vegetable.

⁵ Alternative Field Crops Manual, “Cowpea,” http://www.hort.purdue.edu/newcrop/afcm/cowpea.html.

The final rule is not expected to have a significant economic impact on a substantial number of small entities. The pest risk mitigation measures, including irradiation treatment, will allow the products to be safely moved interstate from Hawaii. Hawaii's producers will benefit by acquiring a broader market for these products, and any adverse effects for mainland producers will be minimal. Of the seven products addressed by this rule, only melon and cowpeas are also grown in the continental United States. Hawaii's share of the U.S. melon market is very small, and shipments to the mainland will be as likely to displace imports as they will be to compete directly with U.S. mainland production. Fresh cowpeas pods are not a product of the U.S. mainland.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform. This rule: (1) Preempts all State and local laws and regulations that are inconsistent with this rule; (2) has no retroactive effect; and (3) does not require administrative proceedings before parties may file suit in court challenging this rule.

National Environmental Policy Act

An environmental assessment and finding of no significant impact have been prepared for this final rule. The environmental assessment provides a basis for the conclusion that the movement of tropical fruits from Hawaii to the continental United States under the conditions specified in this rule will not have a significant impact on the quality of the human environment. Based on the finding of no significant impact, the Administrator of the Animal and Plant Health Inspection Service has determined that an environmental impact statement need not be prepared.

The environmental assessment and finding of no significant impact were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment and finding of no significant impact may be viewed on the Regulations.gov Web site.⁶ Copies of the environmental assessment and finding of no significant impact are also available for public inspection at USDA, room 1141, South Building, 14th Street and Independence Avenue, SW., Washington, DC, between 8 a.m. and 4:30 p.m., Monday through Friday, except holidays. Persons wishing to inspect copies are requested to call ahead at (202) 690-2817 to facilitate entry into the reading room. In addition, copies may be obtained by writing to the individual listed under FOR FURTHER INFORMATION CONTACT.

⁶ Go to http://www.regulations.gov/fdmspublic/component/main?main=DocketDetail&d=APHIS-2007-0050. The environmental assessment and finding of no significant impact will appear in the resulting list of documents.

Paperwork Reduction Act

In accordance with the Paperwork Reduction Act of 1995 (44 U.S.C. 3501 et seq.), the information collection or recordkeeping requirements included in this rule have been approved by the Office of Management and Budget (OMB) under OMB control number 0579-0331.

E-Government Act Compliance

The Animal and Plant Health Inspection Service is committed to compliance with the E-Government Act to promote the use of the Internet and other information technologies, to provide increased opportunities for citizen access to Government information and services, and for other purposes. For information pertinent to E-Government Act compliance related to this rule, please contact Mrs. Celeste Sickles, APHIS' Information Collection Coordinator, at (301) 734-7477.

Lists of Subjects

7 CFR Part 305

Irradiation, Phytosanitary treatment, Plant diseases and pests, Quarantine, Reporting and recordkeeping requirements.

7 CFR Part 318

Cotton, Cottonseeds, Fruits, Guam, Hawaii, Plant diseases and pests, Puerto Rico, Quarantine, Transportation, Vegetables, Virgin Islands.

Accordingly, we are amending 7 CFR parts 305 and 318 to read as follows:

PART 305—PHYTOSANITARY TREATMENTS

1. The authority citation for part 305 continues to read as follows:

Authority: 7 U.S.C. 7701-7772 and 7781-7786; 21 U.S.C. 136 and 136a; 7 U.S.C. 2.22, 2.80, and 371.3.

2. In § 305.31, paragraph (a), the table is amended by adding new entries, in alphabetical order, for “Aspidiotus destructor”, “Copitarsia decolora”, and “Pseudaulacaspis pentagona” to read as follows:

§ 305.31 Irradiation treatment of imported regulated articles for certain plant pests.

(a) * * *

Irradiation for Certain Plant Pests in Imported Regulated Articles ¹
Scientific name | Common name | Dose (gray)
* * * * * * *
Aspidiotus destructor | Coconut scale | 150
* * * * * * *
Copitarsia decolora | (No common name) | 100
* * * * * * *
Pseudaulacaspis pentagona | White peach scale | 150
¹ There is a possibility that some cut flowers could be damaged by such irradiation. See paragraph (n) of this section.

* * * * *

§ 305.32 [Amended]

3. In § 305.32, paragraph (e)(3) is amended by adding the words “or an equivalent standard recognized by the Administrator” after the word “standards”.

4. Section 305.34 is amended as follows:

a. By adding, in alphabetical order, new entries to the table in paragraph (a) for breadfruit, cowpea pods (and its relatives), dragon fruit, jackfruit, mangosteen, melon, and moringa pods to read as set forth below.

b. In the table in paragraph (a), by revising footnote 1 and adding a new footnote 2 to read as set forth below.

c. By revising paragraphs (b)(6)(iii) and (b)(7) and the OMB citation at the end of the section to read as set forth below.

§ 305.34 Irradiation treatment of certain regulated articles from Hawaii, Puerto Rico, and the U.S. Virgin Islands.

(a) * * *

Irradiation for Plant Pests in Hawaiian Fruits and Vegetables
Commodity | Dose (gray)
* * * * *
Breadfruit 1 2 | 400 or 150.
* * * * *
Cowpea pods (and its relatives) ¹ | 400.
* * * * *
Dragon fruit 1 2 | 400 or 150.
* * * * *
Jackfruit 1 2 | 400 or 150.
* * * * *
Mangosteen 1 2 | 400 or 150.
* * * * *
Melon 1 2 | 400 or 150.
* * * * *
Moringa pods 1 2 | 400 or 150.
¹ Breadfruit, cowpea pods, dragon fruit, jackfruit, litchi, mangosteen, melon, moringa pods, and sweetpotato are also subject to the additional inspection and treatment requirements in paragraph (b)(7) of this section.
² Breadfruit, dragon fruit, jackfruit, mangosteen, melon, and moringa pods moving to the continental United States for treatment under limited permit in accordance with the requirements of paragraph (b)(7)(ii) of this section must be treated with the 400 gray dose.

* * * * *

(b) * * *

(6) * * *

(iii) When designing the facility's dosimetry system and procedures for its operation, the facility operator must address guidance and principles from American Society for Testing and Materials (ASTM) standards ¹⁹ or an equivalent standard recognized by the Administrator.

¹⁹ See footnote 4 of this subpart.

(7)(i) Certification on basis of treatment. A certificate shall be issued by an inspector for the movement of articles from Hawaii that have been treated and handled in accordance with this section.

(A) To be certified for interstate movement under this section, litchi from Hawaii must be inspected in Hawaii and found free of the litchi fruit moth (Cryptophlebia spp.) and other plant pests by an inspector before undergoing irradiation treatment in Hawaii for fruit flies.

(B) To be certified for interstate movement under this section, sweetpotato from Hawaii must be inspected in Hawaii and found free of the gray pineapple mealybug (Dysmicoccus neobrevipes) and the Kona coffee-root knot nematode (Meloidogyne konaensis) by an inspector before undergoing irradiation treatment in Hawaii. In addition, sweetpotato from Hawaii to be treated with irradiation at a dose of 150 Gy must be sampled, cut, and inspected in Hawaii and found to be free of the ginger weevil (Elytrotreinus subtruncatus) by an inspector before undergoing irradiation treatment in Hawaii. Sampling, cutting, and inspection must be performed under conditions that will prevent any pests that may emerge from the sampled sweetpotatoes from infesting any other sweetpotatoes intended for interstate movement in accordance with this section.

(C) To be certified for interstate movement under this section, breadfruit and jackfruit from Hawaii must be inspected in Hawaii and found free of spiraling whitefly (Aleurodicus dispersus), inornate scale (Aonidiella inornata), red wax scale (Ceroplastes rubens), green scale (Coccus viridis), gray pineapple mealybug (Dysmicoccus neobrevipes), pink hibiscus mealybug (Maconellicoccus hirsutus), spherical mealybug (Nipaecoccus viridis), citrus mealybug (Pseudococcus cryptus), melon thrips (Thrips palmi) and signs of thrip damage before undergoing irradiation treatment in Hawaii at the 150 gray dose. Fruit receiving the 150 gray dose also must either receive a post-harvest dip in accordance with treatment schedule T102-c as provided in § 305.42(b) or originate from an orchard or growing area that was previously treated with a broad-spectrum insecticide during the growing season and a pre-harvest inspection of the orchard or growing area found the fruit free of any surface pests as prescribed in a compliance agreement. Post-treatment inspection in Hawaii is not required if the fruit undergoes irradiation treatment at the 400 gray dose. Regardless of irradiation dose, the fruit must be free of stems and leaves and must originate from an orchard that was previously treated with a fungicide appropriate for the fungus Phytophthora tropicalis during the growing season and the fruit must be inspected prior to harvest and found free of the fungus or, after irradiation treatment, must receive a post-harvest fungicidal dip appropriate for Phytophthora tropicalis.

(D) To be certified for interstate movement under this section, fresh pods of cowpea and its relatives from Hawaii must be inspected in Hawaii and found free of the cassava red mite (Oligonychus biharensis) and adults and pupae of the order Lepidoptera before undergoing irradiation treatment. The pods must be free of stems and leaves.

(E) To be certified for interstate movement under this section, dragon fruit from Hawaii presented for inspection must have the sepals removed and must be inspected in Hawaii and found free of gray pineapple mealybug (Dysmicoccus neobrevipes), pink hibiscus mealybug (Maconellicoccus hirsutus), and citrus mealybug (Pseudococcus cryptus) before undergoing irradiation treatment in Hawaii at the 150 gray dose. Fruit receiving the 150 gray dose also must either receive a post-harvest dip in accordance with treatment schedule T102-c as provided in § 305.42(b) or originate from an orchard or growing area that was previously treated with a broad-spectrum insecticide during the growing season and a pre-harvest inspection of the orchard or growing area found the fruit free of any surface pests as prescribed in a compliance agreement. Post-treatment inspection in Hawaii is not required if the fruit undergoes irradiation treatment at the 400 gray dose. Regardless of irradiation dose, the fruit must be free of stems and leaves.

(F) To be certified for interstate movement under this section, mangosteen from Hawaii must have the sepals removed and must be inspected in Hawaii and found free of gray pineapple mealybug (Dysmicoccus neobrevipes), pink hibiscus mealybug (Maconellicoccus hirsutus), citrus mealybug (Pseudococcus cryptus), and Thrips florum before undergoing irradiation treatment in Hawaii at the 150 gray dose. Fruit receiving the 150 gray dose also must either receive a post-harvest dip in accordance with treatment schedule T102-c as provided in § 305.42(b) or originate from an orchard or growing area that was previously treated with a broad-spectrum insecticide during the growing season and a pre-harvest inspection of the orchard or growing area found the fruit free of any surface pests as prescribed in a compliance agreement. Post-treatment inspection in Hawaii is not required if the fruit undergoes irradiation treatment at the 400 gray dose. Regardless of irradiation dose, the fruit must be free of stems and leaves.

(G) To be certified for interstate movement under this section, melon from Hawaii must be inspected in Hawaii and found free of spiraling whitefly (Aleurodicus dispersus) before undergoing irradiation treatment in Hawaii at the 150 gray dose. Fruit receiving the 150 gray dose also must either receive a post-harvest dip in accordance with treatment schedule T102-c as provided in § 305.42(b) or originate from an orchard or growing area that was previously treated with a broad-spectrum insecticide during the growing season and a pre-harvest inspection of the orchard or growing area found the fruit free of any surface pests as prescribed in a compliance agreement. Post-treatment inspection in Hawaii is not required if the fruit undergoes irradiation treatment at the 400 gray dose. Regardless of irradiation dose, melons must be washed to remove dirt and must be free of stems and leaves.

(H) To be certified for interstate movement under this section, moringa pods from Hawaii must be inspected in Hawaii and found free of spiraling whitefly (Aleurodicus dispersus), inornate scale (Aonidiella inornata), green scale (Coccus viridis), and citrus mealybug (Pseudococcus cryptus) before undergoing irradiation treatment in Hawaii at the 150 gray dose. Fruit receiving the 150 gray dose also must either receive a post-harvest dip in accordance with treatment schedule T102-c as provided in § 305.42(b) or originate from an orchard or growing area that was previously treated with a broad-spectrum insecticide during the growing season and a pre-harvest inspection of the orchard or growing area found the fruit free of any surface pests as prescribed in a compliance agreement. Post-treatment inspection in Hawaii is not required if the fruit undergoes irradiation treatment at the 400 gray dose.

(ii) Limited permit. A limited permit shall be issued by an inspector for the interstate movement of untreated articles from Hawaii into the continental United States for treatment in accordance with this section.

(A) To be eligible for a limited permit under this section, untreated litchi from Hawaii must be inspected in Hawaii and found free of the litchi fruit moth (Cryptophlebia spp.) and other plant pests by an inspector.

(B) To be eligible for a limited permit under this section, untreated sweetpotato from Hawaii must be inspected in Hawaii and found free of the gray pineapple mealybug (Dysmicoccus neobrevipes) and the Kona coffee-root knot nematode (Meloidogyne konaensis) by an inspector. In addition, sweetpotato from Hawaii to be treated with irradiation at a dose of 150 Gy must be sampled, cut, and inspected in Hawaii and found free of the ginger weevil (Elytrotreinus subtruncatus) by an inspector. Sampling, cutting, and inspection must be performed under conditions that will prevent any pests that may emerge from the sampled sweetpotatoes from infesting any other sweetpotatoes intended for interstate movement in accordance with this section.

(C) To be eligible for a limited permit under this section, breadfruit and jackfruit from Hawaii must be free of stems and leaves and must originate from an orchard that was previously treated with a fungicide appropriate for the fungus Phytophthora tropicalis during the growing season and the fruit must be inspected prior to harvest and found free of the fungus or, after irradiation treatment, must receive a post-harvest fungicidal dip appropriate for Phytophthora tropicalis.

(D) To be eligible for a limited permit under this section, fresh pods of cowpea and its relatives from Hawaii must be free of stems and leaves and must be inspected in Hawaii and found free of the cassava red mite (Oligonychus biharensis) and adults and pupae of the order Lepidoptera.

* * * * *

(Approved by the Officer of Management and Budget under control numbers 0579-0198, 0579-0281, and 0579-0331)

PART 318—HAWAIIAN AND TERRITORIAL QUARANTINE NOTICES

5. The authority citation for part 318 continues to read as follows:

Authority: 7 U.S.C. 7701-7772 and 7781-7786; 7 CFR 2.22, 2.80, and 371.3.

§ 318.13-4f [Amended]

6. Section 318.13-4f is amended as follows:

a. By adding the word “breadfruit,” before the words “Capsicum spp. (peppers)”.

b. By adding the words “cowpea pods,” before the words “Cucurbita spp. (squash)”.

c. By adding the word “dragon fruit,” before the word “eggplant”.

d. By adding the word “jackfruit,” before the word “litchi”.

e. By adding the words “mangosteen, melon, moringa pods,” before the word “papaya”.

Done in Washington, DC, this 30th day of April 2008.
Kevin Shea,
Acting Administrator, Animal and Plant Health Inspection Service.

[FR Doc. E8-9978 Filed 5-5-08; 8:45 am]

BILLING CODE 3410-34-P